DEPARTMENT OF THE INTERIOR

National Park Service

National Register of Historic Places; Notification of Pending Nominations and Related Actions

Nominations for the following properties being considered for listing or related actions in the National Register were received by the National Park Service before February 28, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th Floor, Washington, DC 20005; or by fax, 202-371-6447. Written or faxed comments should be submitted by March 30, 2009.

J. Paul Loether,
Chief, National Register of Historic Places/National Historic Landmarks Program.

ARIZONA

Coconino County

Ice House, The, 201 E. Birch Ave., Flagstaff, 09000174.

CALIFORNIA

Los Angeles County

Frank, Richard and Mary Alice, House, (Cultural Resources of the Recent Past, City of Pasadena), 919 La Loma Rd., Pasadena, 09000175.

Gill, Merwyn C., House, (Cultural Resources of the Recent Past, City of Pasadena), 1385 El Mirador Dr., Pasadena, 09000176.

Marguerita Lane Historic District, (Cultural Resources of the Recent Past, City of Pasadena), Along Marguerita La., Pasadena, 09000177.

Mello, Clarence and Mary, House, (Cultural Resources of the Recent Past, City of Pasadena), 541 Fremont Dr., Pasadena, 09000178.

Norton, John, House, (Cultural Resources of the Recent Past, City of Pasadena), 820 Burleigh Dr., Pasadena, 09000179.

Pacific Electric Building, 610 S. Main St., Los Angeles, 09000180.

Pike, Robert and Barbara, House, (Cultural Resources of the Recent Past, City of Pasadena), 512 Glen Ct., Pasadena, 09000181.

Poppy Peak Historic District, (Cultural Resources of the Recent Past, City of Pasadena), Bounded by Ave. 64 on the E., La Loma Rd. on the N. including Poppy Peak Dr., Kaweah Dr., Cresthaven Dr., Pasadena, 09000182.

FLORIDA

Sarasota County

Downtown Sarasota Historic District, Bound by 1st St., Orange Ave., State St., Gulf Stream Ave. and N. Pineapple Ave., Sarasota, 09000183.

GEORGIA

Chatham County

Fairway Oaks-Greenview Historic District, Bounded approx. by DeRenne Dr., Waters Ave., Truman Pkwy., and Casey Canal, and the Live Oaks Golf Course, Savannah, 09000184.

Fulton County

Winecoff Hotel, 179 Peachtree St., NW., Atlanta, 09000185.

Newton County

Brick Store, US 278 at Little River Rd./Social Circle Rd., Covington, 09000186.

Screven County

Harris-Murrow-Trowell House, 473 Old Louisville Rd., Oliver, 09000187.

Walker County

Chickamauga Coal and Iron Company Coke Ovens, GA 341, Chickamauga, 09000188.

KANSAS

Dickinson County

Eliason Barn, (Agriculture-Related Resources of Kansas), 147 KS 4, Gypsum, 09000189.

Ellis County

Mermis, J.A., House, 1401 Ash St., Hays, 09000190.

Montgomery County

Brown Barn, (Agriculture-Related Resources of Kansas), 5879 Co. Rd. 4300, Independence, 09000191.

Ness County

Thornburg Barn, (Agriculture-Related Resources of Kansas), Co. Rd. A, 1.5 mi. W. of D Rd., Utica, 09000192.

Pottawatomie County

Teske Farmstead, (Agriculture-Related Resources of Kansas), 20795 Major Jenkins Rd., Onaga, 09000193.

Republic County

Shimanek Barn, (Agriculture-Related Resources of Kansas), 1806 220 Rd., Munden, 09000194.

Sheridan County

Shafer Barn, (Agriculture-Related Resources of Kansas), Co. Rd. 50S, 1.5 mi. W. of Co. Rd. 80E, Hoxie, 09000195.

MASSACHUSETTS

Worcester County

Parkman Parsonage Historic District, Portions of E. Main St., High St., Lincoln St., Milk St., Prospect and Spring Sts., Westborough, 09000196.

WISCONSIN

Columbia County

Goeres Park, 101 Fair St., Lodi, 09000197.

Lodi School Hillside Improvement Site, Corner St., bounded by Pleasant St. and Columbus St., Lodi, 09000198.

[FR Doc. E9-5501 Filed 3-12-09; 8:45 am]

BILLING CODE 4310-70-P